DEPARTMENT OF HEALTH AND HUMAN SERVICES

National Institutes of Health

Office of the Director, Office of Science Policy; Meeting

Pursuant to section 10(a) of the Federal Advisory Committee Act, as amended (5 U.S.C. App.), notice is hereby given of the meeting of the National Science Advisory Board for Biosecurity (NSABB).

Name of Committee: National Science Advisory Board for Biosecurity.

Date: May 11, 2017.

Time: 2:00 p.m.-4:30 p.m. Eastern.

Agenda: Presentations and discussions regarding: (1) The Blue Ribbon Panel draft report on the 2014 variola virus incident on the NIH Bethesda campus; (2) stakeholder engagement on implementation of the U.S. Government Policy for Institutional Oversight of Life Sciences Dual Use Research of Concern (DURC); and (3) other business of the Board.

Place: Telephone conference call only (no in-person meeting), Public Dial-in (US Toll Free): 1-866-939-3921, Confirmation Number: 44675525.

Contact Person: Jessica Tucker, Ph.D., Executive Director, NSABB, NIH Office of Science Policy, 6705 Rockledge Drive, Suite 750, Bethesda, Maryland 20892, (301) 451-4431, jessica.tucker@nih.gov.

Under authority 42 U.S.C. 217a, section 222 of the Public Health Service Act, as amended, the Department of Health and Human Services established the National Science Advisory Board for Biosecurity (NSABB) to provide advice regarding federal oversight of dual use research—defined as legitimate biological research that generates information and technologies that could be misused to pose a biological threat to public health and/or national security.

The toll-free teleconference line will be open to the public at 1:30 p.m. to allow time for operator-assisted check-in. Members of the public planning to participate in the teleconference may also pre-register online via the link provided below or by calling Palladian Partners, Inc. (Contact: Carly Sullivan at 301-318-0841). Pre-registration will close at 12:00 p.m. Eastern on May 8, 2017. After that time, attendees may register their information with the teleconference operator upon dialing into the meeting. Individuals who plan to participate and need special assistance should submit a request to the contact person listed on this notice by May 3, 2017.

Meeting materials: The meeting agenda, background material, and online pre-registration will be available at: https://palladianpartners.cvent.com/nsabbmay2017. Please check this Web site for updates.

Public Comments: Time will be allotted on the agenda for the delivery of oral public comments. Members of the public interested in delivering prepared comments relevant to the mission of the NSABB should indicate so upon registration. Sign-up for delivering prepared oral comments will be limited to one per person or organization representative per open comment period. Individual comments will be time-limited to facilitate broad participation from multiple speakers.

In addition, interested persons may file written comments at any time with the Board via an email sent to nsabb@od.nih.gov or by regular mail sent to the Contact Person listed on this notice. Written statements should include the name, contact information, and when applicable, the professional affiliation of the interested person. Written comments received by 12:00 p.m. Eastern on May 8, 2017 will be relayed to the NSABB prior to the teleconference meeting. Any written comments received after this deadline will be provided to the Board either before or after the meeting, depending on the volume of comments received and the time required to process them in accordance with privacy regulations and other applicable federal policies.

Dated: April 10, 2017.
David Clary,
Program Analyst, Office of Federal Advisory Committee Policy.

[FR Doc. 2017-07511 Filed 4-12-17; 8:45 am]

BILLING CODE 4140-01-P